DEPARTMENT OF TRANSPORTATION

Federal Railroad Administration

[Docket Number FRA-2018-0100]

Petition for Waiver of Compliance

Under part 211 of Title 49 Code of Federal Regulations (CFR), this document provides the public notice that on November 15, 2018, Norfolk Southern Railway Company (NS), petitioned the Federal Railroad Administration (FRA) for a waiver of compliance from certain provisions of the Federal railroad safety regulations contained at 49 CFR part 232, Brake System Safety Standards for Freight and Other Non-Passenger Trains and Equipment; End-of-Train Devices. FRA assigned the petition Docket Number FRA-2018-0100.

Specifically, NS proposes to create a 3D simulation using web-based software to satisfy the “hands-on” portion of the training required by 49 CFR 232.203(e), in connection with periodic refresher training. Refresher training is required at intervals not to exceed 3 years, and shall consist of classroom and hands-on training, as well as testing. NS states that due to the velocity of their operations network, it is often difficult to provide a consistent training and testing environment regarding car selection, defects, and availability. Further, NS contends that this proposal's one-on-one training will be more conducive to learning than a group setting.

The NS proposal will simulate a Class I Brake Test and places the user in a virtual 3D scenario requiring concrete responses to an array of preprogrammed defects on various types of freight cars and brake systems while performing the brake test. To successfully complete the scenario, the user must identify key components and identify and correct all defects, including but not limited to closed cut-out cocks, uncoupled air hoses, closed angle cocks, wrongly positioned retainer valves, and fouled brake rigging.

NS seeks to apply this waiver system wide to all NS craft personnel responsible for performing freight air brakes tests, including supervisors, freight car repair personnel, and conductors.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 25, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety Chief Safety Officer.

[FR Doc. 2019-01223 Filed 2-5-19; 8:45 am]

BILLING CODE 4910-06-P